DEPARTMENT OF LABOR

Employment and Training Administration

Proposed Information Collection Request for Attestations by Facilities Temporarily Employing H-1C Nonimmigrant Aliens as Registered Nurses; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Employment and Training Administration (ETA) is soliciting comments on a request to reinstate, without modification, collection of information on the ETA Form 9081, Attestations by Facilities Temporarily Employing H-1C Nonimmigrant Aliens as Registered Nurses. Reinstatement of this collection is necessary to support implementation of the Nursing Relief for Disadvantaged Areas Act of 1999, which was reauthorized by the Congress on December 20, 2006.

DATES: Written Comments must be submitted to the office listed in the addressee's section below on or before June 25, 2007.

ADDRESSES: Submit written comments to the Employment and Training Administration Office of Foreign Labor Certification, U.S. Department of Labor, 200 Constitution Avenue, NW., Room C-4312, Washington, DC 20210; Attention: Brian Pasternak. Telephone number: (202) 693-3010 (this is not a toll-free number). Fax: (202) 693-2768. E-mail: H-1C9089.Comments@dol.gov.

SUPPLEMENTARY INFORMATION:

I. Background

On November 12, 1999, the Nursing Relief for Disadvantaged Areas Act of 1999 (NRDAA), Public Law 106-95, amended the Immigration and Nationality Act (INA) to establish the H-1C program to reduce the shortage of qualified nurses in Health Professional Shortage Areas (HPSAs). The ETA and Employment Standards Administration (ESA) promulgated regulations at 20 CFR part 655, subparts L and M, governing the filing and enforcement of attestations by facilities seeking to employ aliens as registered nurses in HPSAs on a temporary basis.

The NRDAA allows qualified hospitals to employ temporary foreign workers as registered nurses for up to three (3) years under the H-1C visas. Facilities seeking H-1C visas are required to file attestations with the Secretary of Labor. Each facility must attest that (1) It meets the definition of “facility” based on the Social Security Act and the Public Health Service Act, (2) it did not and will not lay off a registered nurse in the period between 90 days before and 90 days after the filing of any H-1C petition, (3) it will not employ a number of H-1C nurses that exceeds 33 percent of the total number of registered nurses employed at the facility, and (4) it will not authorize the H-1C nurse to perform nursing services at any worksite other than a worksite controlled by the facility or transfer the H-1C nurse's place of employment from one work place to another.

The NRDAA expired on June 13, 2005. However, on December 20, 2006, with the enactment of Public Law 109-423, Congress reauthorized the H-1C program for an additional three (3) years. The key provisions of the program remain unaffected and take effect immediately. The mechanism for employers or facilities to make attestations to the Secretary of Labor is the ETA Form 9081, and to expedite implementation of the reauthorized statute, the ETA is requesting a reinstatement, without modifications, to this information collection.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Reinstatement.

Agency: Employment and Training Administration.

Title: Attestations by Facilities Temporarily Employing H-1C Nonimmigrant Aliens as Registered Nurses.

OMB Number: 1205-0415.

Affected Public: Businesses and not-for-profit institutions. Cite/Reference/Form/etc.: Nursing Relief for Disadvantaged Areas Act of 1999, as amended; ETA Form 9081.

Total Respondents: 14.

Frequency: On occasion.

Total Responses: 172 attestations on an annual basis.

Average Time per Response: 40 minutes.

Estimated Total Burden Hours: 68 hours.

Total Burden Cost (capital/startup): $0.

Total Burden Cost (operating/maintaining): $0.

Comments submitted in response to this notice will be summarized and/or included in the request for OMB approval of the information collection request; they will also become a matter of public record.

Dated: April 12, 2007.
William L. Carlson,
Administrator, Office of Foreign Labor Certification.

[FR Doc. E7-7689 Filed 4-23-07; 8:45 am]

BILLING CODE 4510-FP-P